TENNESSEE VALLEY AUTHORITY

Meeting of the Regional Resource Stewardship Council

AGENCY: Tennessee Valley Authority (TVA).

ACTION: Notice of meeting.

SUMMARY: The TVA Regional Resource Stewardship Council (RRSC) will hold a meeting on Wednesday, July 15, 2009 to consider various matters.

The RRSC was established to advise TVA on its natural resource stewardship activities. Notice of this meeting is given under the Federal Advisory Committee Act, 5 U.S.C. App. 2, (FACA).

The management of the Tennessee Valley reservoirs and the lands adjacent to them has long been integral components of TVA's mission. As part of implementing the TVA Environmental Policy, TVA is conducting an Environmental Impact Study (EIS) under the process established by the National Environmental Policy Act (NEPA) that will help prioritize techniques for the management of TVA's sustainable land use activities, natural resource management activities, and water resource protection and improvement activities. TVA would like to utilize the RRSC as a key stakeholder group throughout the EIS period to advise TVA on the issues, tradeoffs, and focus of environmental stewardship activities. At the July meeting, TVA will be seeking advice from the Council on issues regarding the scope and direction of the study.

TVA will also be seeking recommendations and advice on its campground and marina operations. Specifically, TVA will be seeking advice on the appropriate methodology or approach to establishing a value to charge campground and marina operators for use of the public lands.

The meeting agenda includes the following:

1. Introductions.

2. Informational Items and Project Updates (Kingston Fly Ash Recovery Efforts, Bear Creek Dam Project, Blue Ridge Dam Project, Reservoir Systems Operations, Integrated Resource Plan).

3. RRSC Discussion Topic: Environmental Impact Study on TVA's Stewardship Management (e.g. Study of Natural Resource Management, Sustainable Land Use, and Water Protection.).

4. RRSC Discussion Topic: TVA's Marina and Campground Valuation.

5. Public Comments.

6. Council Discussion and Advice.

The TVA RRSC will hear opinions and views of citizens by providing a public comment session. The public comment session will be held at 11 a.m., EDT, on Wednesday, July 15. Persons wishing to speak are requested to register at the door by 9 a.m., on Wednesday, July 15 and will be called on during the public comment period. Handout materials should be limited to one printed page. Written comments are also invited and may be mailed to the Regional Resource Stewardship Council, Tennessee Valley Authority, 400 West Summit Hill Drive, WT-11B, Knoxville, Tennessee 37902.

DATES: The meeting will be held on Wednesday, July 15, 2009, from 8 a.m. to 3:30 p.m., EDT.

ADDRESSES: The meeting will be held at the Auditorium of the TVA Headquarters at 400 West Summit Hill Drive, Knoxville, Tennessee 37902, and will be open to the public. Anyone needing special access or accommodations should let the contact below know at least a week in advance.

FOR FURTHER INFORMATION CONTACT: Beth Keel, 400 West Summit Hill Drive, WT-11B, Knoxville, Tennessee 37902, (865) 632-6113.

Dated: June 22, 2009.
Anda A. Ray,
Senior Vice President, Office of Environment & Research, Tennessee Valley Authority, WT 11A-K.

[FR Doc. E9-15087 Filed 6-25-09; 8:45 am]

BILLING CODE 8120-08-P